DEPARTMENT OF HEALTH AND HUMAN SERVICES

National Institutes of Health

Statement of Organization, Functions, and Delegations of Authority

Part N, National Institutes of Health, of the Statement of Organization, Functions, and Delegations of Authority for the Department of Health and Human Services (40 FR 22859), May 27, 1975, as amended most recently at 66 FR 6617, January 22, 2001, and redesignated from Part HN as Part N at 60 FR 56605, November 9, 1995), is amended as set forth below to reorganize the Office of the Director, NIH, as follows: (1) Abolish the Office of Bioengineering, Bioimaging, and Bioinformatics.

Section N-B, Organization and Functions, under the heading Office of the Director (NA, formerly HNA), is amended as follows:

(1) Immediately following the statement for the Executive Office (NAR, formerly HNAR), the title and functional statement of the Office of Bioengineering, Bioimaging, and Bioinformatics (NAC, formerly HNAC) as deleted in their entirety.

DELEGATIONS OF AUTHORITY STATEMENT: All delegations and redelegations of authority to officers and employees of NIH which were in effect immediately prior to the effective date of this reorganization and are consistent with this reorganization shall continue in effect, pending further redelegation.

Dated: March 6, 2001.
Ruth L. Kirschstein,
Acting Director, National Institutes of Health.

[FR Doc. 01-10581 Filed 4-27-01; 8:45 am]

BILLING CODE 4140-01-M